DEPARTMENT OF JUSTICE

Antitrust Division

Notice Pursuant to the National Cooperative Research and Production Act of 1993—Telemanagement Forum

Notice is hereby given that, on January 16, 2009, pursuant to Section 6(a) of the National Cooperative Research and Production Act of 1993, 15 U.S.C. 4301 et seq. (“the Act”), TeleManagement Forum (“the Forum”) filed written notifications simultaneously with the Attorney General and the Federal Trade Commission disclosing changes in its membership. The notifications were filed for the purpose of extending the Act's provisions limiting the recovery of antitrust plaintiffs to actual damages under specified circumstances. Specifically, AASKI Technology, Inc., Ocean, NJ; ABIS & Associates Ltd, Chessington, Surrey, United Kingdom; AIST Limited, Stanmore, Middlesex, United Kingdom; Almira Labs, Tres Cantos, Madrid, Spain; Altran-Europe, Brussels, Belgium; Ariston Global, Pittsford, NY; Arizona State University, Tempe, AZ; ARRIS Group Inc., Suwanee, GA; ASPire Digital Technologies (Shenzhen) Co., Ltd., Shenzhen, Guangong, People's Republic of China; ATANOO Europe GmbH, Zug, Switzerland; Austen Consultancy Services, Ltd., Hemel Hempstead, Hertfordshire, United Kingdom; Biap Systems, Inc., Sterling, VA;

BlackArrow, Inc., San Mateo, CA; Boss Portal, Auckland, New Zealand; Brighthouse Networks, East Syracuse, NY; British Sky Broadcasting Group plc, Isleworth, United Kingdom; Call Genie, Inc., San Francisco, CA; Cloud Scope Technologies, Inc., Tokyo, Japan;

Computaris, Brentwood, Essex, United Kingdom; Cricket Communications, San Diego, CA; Cyan Optics, Petaluma, CA; Edge Technologies, Fairfax, VA; e-globe technologies AG, Bern, Switzerland; Elektro-Slovenija d.o.o., Ljubljana, Slovenia; Ethiopian Telecommunications Corporation, Addis Ababa, Ethiopia; Front Porch, Inc., Sonora, CA; HERMES SoftLab, Ljubljana, Slovenia; i2Cat, Barcelona, Spain; Icesolutions, Ljubljana, Slovenia; Information Works, Köln, Germany; Innovative Systems, Mitchell, SD; ITS Telco Services GmbH, Köln, Germany; IWF Consultoria e Terinamento, Campinas, São Paulo, Brazil; Kazakhtelecom JSC, Astana, Sary-Arka, Republic of Kazakhstan; King Mongkut's University of Technology Thonburi, Bangmod, Thung Karu District Bangkok, Thailand; KPMG Advisory Spolka z ograniczona odpowiedzialnoscia sp.k.ul., Warsaw, Poland; LGG Solutions, Colorado Springs, CO; Lightwolf Technologies LLC, Walpole, MA; Mantra Communication AB, Göteborg, Sweden; Metrotek, Moscow, Russia; mobily, Riyadh, Saudi Arabia; Mobitel, d.d., Ljubljana, Slovenia; MSTelcom, Luanda, Angola; MTN Zambia, Lusaka, Zambia; Nevogrid, Espoo, Finland; NetOne, Shinagawa-ku, Tokyo, Japan; Nipsoft Business System AB, Solleftea, Sweden; Noblis, Inc., Falls Church, VA; Ogilvy, London, United Kingdom; OpenVision Co., Ltd., Bangkok, Thailand; Picsel Technologies Ltd., Glasgow, United Kingdom; Piran Partners LLP, London, United Kingdom; Polystar OSIX, Farsta, Sweden; Process Management Consulting GmbH, Munich, Germany; Q/P Management Group of Canada, Nepean, Ontario, Canada; RAO Infosystems, Chamaraja Mohalla, Karnataka, India; Red Zinc, Dublin, Ireland; RightStar Systems, Vienna, VA; Savvion, Santa Clara, CA; ScoZA Uganda Limited, Kampala, Uganda; Serafina Consulting Oy, Jyvaskyla, Finland; ServicePilot Technologies, Pornichet, France; Sezmi Corporation, Belmont, CA;

Site of Knowledge Group AB, Lund, Sweden; SmartNet, São Paulo, Brazil; Solidi Pte Ltd, Singapore, Singapore; Superna Business Consulting Inc., Ottawa, Ontario, Canada; Sybase SA, Johannesburg, Rivonia, South Africa; Systems Research Private Limited, Islamabad, Pakistan; TailorMade, Sundbyberg, Sweden; Tata Communications Ltd., Mumbai, India; Telecom@Work, Bornem, Belgium; Telfort B.V., Amsterdam, The Netherlands; Texas Department of Information Resources, Austin, TX; Thales Communications SA, Cedex, France; The CNIA Group, Westfield, NJ; theNetStart Platform Ltd, Sheffield, United Kingdom; T-Home, Darmstadt, Germany; Trammell Craig & Associates, Dillon, CO; UK Cabinet Office, London, United Kingdom; University of Palermo, Palermo, Italy; uralsvyazinform JSC, Ekaterinburg, Russia; Vertek Corporation, Colchester, VT; VicTrack, Docklands, Victoria, Canada; Wataniya Telecom Maldives Private Limited, Hulhumalé, Malé, Republic of Maldives; and Zurich University of Applied Sciences, Winterthur, Zurich, Switzerland, have been added as parties to this venture.

Also, Aircom International Ltd, Leatherhead, Surrey, United Kingdom; ArcSight, mc, Cupertino, CA; Avistas, Irving, TX; Brix Networks, Chelmsford, MA; Cellex Network Systems (2007) Ltd., Bne Beraq, Israel; CIMI Corp., Voorhees, NJ; Comservice Networks Pty Ltd, Melbourne, Victoria, Australia; Conexion S.A., Asuncion, Paraguay; GuangZhou Sunrise Electronics Development Co., Ltd, Guangzhou, Guangong, People's Republic of China; Infogix, Inc., Naperville, IL; IONA Technologies, Waltham, MA; MaxProcess, Rio de Janeiro, Brazil; MOBIK d.o.o., Ljubljana, Slovenia; Netsure Telecom Ltd. Dublin 12, Leinster, Ireland; Reachview Technologies Inc., Atlanta, GA; Real Time Engineering Limited, Glasgow, Lanarkshire, United Kingdom; Servista Ltd. London, Greater London, United Kingdom; TechOne, Inc., Milpitas, CA; TideStone Software (Shanghai) Corp., Shanghai, People's Republic of China; Visionael Corporation, Mountain View, CA; VSNL International, Matawan, NJ; and Wisdom Networks Co., Ltd., Chiyoda-ku, Tokyo, Japan, have withdrawn as parties to this venture.

The following members have changed their names: DVA AG Optical Networking to ADVA Optical Networking Ltd; Alcatel-Lucent Polska Sp. z.o.o., to Alcatel-Lucent; Aricent Technologies (Holdings) Ltd, to Aricent; Arris uu to ARRIS Group Inc.; Bahrain Telecommunications Company (BSC) to Bahrain Telecommunications Company (Batelco); BlackArrow TV to BlackArrow Inc.; Brighthouse Networks, LLC to Brighthouse Networks; Sky to British Sky Broadcasting Group plc; CANTV.NET to CANTV; Comarch to Comarch S.A.; Cominfo Consulting to Cominfo Consulting Group Ltd; Fundacao CPqD to CPqD; Fundacao Centro de Pesquisa e Desenvolvimento em Telecom to CPqD; Dux Diligens to DUXDILIGENS, S.A. DE C.V.; Eles, d.o.o. to Elektro-Slovenija d.o.o.; Ernst & Young Global Telecom Center to Ernst & Young CIS B.V., Moscow Branch; KPMG CEE to KPMG Advisory Spolka z organiczona odpowiedzialnoscia sp.k; LGG Solutions, LLC to LGG Solutions; Nokia Siemens Networks GmbH & Co. KG to Nokia Siemens Networks; Gurulab.org to OOCorp; Openet Telecom to Openet; OSSEra, Inc.1 to OSSEra, Inc.; Picsel Technologies, Inc. to Picsel Technologies Ltd.; WeDo Technologies to Praesidium; Process Man GmbHagement Consulting to Process Management Consulting GmbH; Promon Tecnologia to PromonLogicalis Tecnologia SA; PT ExcelComindo Pratma to PT Excelcomindo Pratma Tbk; PURGE to ExcelComindo Pratma Tbk; PT Excelcomindo to PT Excelcomindo Pratma Tbk; ServicePilot to ServicePilot Technologies; Building-B to Sezmi Corporation; Sigma Systems Canada Inc to Sigma Systems; Superna Business Consulting to Superna Business Consulting mc; Tata Communication to Tata Communications Ltd.; Telekom Malaysia Berhad to Telekom Malaysia Berhad (TM); Telekom Serbia to Telekom Srbija; Thales Communications (France) to Thales Communications SA; Truebaseline Corporation to TrueClick Solutions LLC; Windward IT Solutions LLC to Windward IT Solutions.

No other changes have been made in either the membership or planned activity of the group research project. Membership in this group research project remains open, and the Forum intends to file additional written notifications disclosing all changes in membership.

On October 21, 1988, the Forum filed its original notification pursuant to Section 6(a) of the Act. The Department of Justice published a notice in the Federal Register pursuant to Section 6(b) of the Act on December 8, 1988 (53 FR 49615).

The last notification was filed with the Department on August 7, 2008. A notice was published in the Federal Register pursuant to Section 6(b) of the Act on November 10, 2008 (73 FR 66673).

Patricia A. Brink,
Deputy Director of Operations, Antitrust Division.

[FR Doc. E9-6373 Filed 3-25-09; 8:45 am]

BILLING CODE 4410-11-M